DEPARTMENT OF TRANSPORTATION

Federal Transit Administration

Environmental Impact Statement for Improved Station Access and Additional Parking at the MTA Metro-North Railroad North White Plains Station, Westchester County, NY

AGENCY: Federal Transit Administration (FTA), DOT.

ACTION: Notice of intent to prepare an environmental impact statement.

SUMMARY: The FTA, in cooperation with the Metropolitan Transportation Authority (MTA) Metro-North Railroad (Metro-North) and the Westchester County Department of Transportation (WCDOT), intend to prepare an Environmental Impact Statement (EIS) on a proposal to improve station access and provide additional parking at the Metro-North North White Plains Station, Westchester County, New York (Proposed Action).

The FTA is the lead Federal agency under the National Environmental Policy Act of 1969 (NEPA). The Proposed Action is being developed by Metro-North and WCDOT, the co-sponsors of the Proposed Action. The EIS will be prepared in accordance with NEPA and the applicable regulations for implementing NEPA, as set forth in 23 CFR part 771 and 40 CFR parts 1500-1508. The EIS is being prepared to satisfy the requirements of the New York State Environmental Quality Review Act (SEQRA). Items that will be considered in the Proposed Action are:

• Expansion of parking capacity through the construction of a multi-level parking structure at Metro-North's North White Plains Station;

• Improved access to/from the proposed expanded parking facilities from the east side of the railroad tracks;

• Enhanced customer service facilities for intermodal connections and parking demand management strategies such as: Jitney services, feeder buses supported by park-and-ride lots, carpool and vanpool arrangements, bicycling and walking;

• Restoration of a portion of the Bronx River Parkway Reservation which is currently used for customer parking back to parkland; and

• Rerouting a portion of the Bronx River Parkway Reservation bike pathway in the study area.

The EIS will evaluate a build alternative, comprising a multi-level parking structure and four possible access alternatives, a No Action Alternative and any additional reasonable alternatives generated by the scoping process. Scoping will be accomplished through meetings and correspondence with interested persons, organizations, and Federal, State, regional, and local agencies.

DATES: The public is invited to participate in a scoping meeting on June 14th, 2005 commencing at 7 p.m. at the location identified under ADDRESSES below to ensure that all significant issues are identified and considered. Presentation boards depicting the Proposed Action will be available for review at the meeting. Metro-North and WCDOT representatives will be present at the meeting.

Formal presentations by Metro-North and WCDOT regarding the project will be made at 7 p.m., followed by the opportunity for the public to make comments on the scope of the EIS. Registration to speak will begin at 6:30 p.m. and will remain open until 8:30 p.m.. A stenographer will be available at the meeting to record oral comments. Those wishing to speak are requested to register at the meeting location upon arrival, however, registration to speak will remain open until 8:30 p.m. The meeting will conclude when all registered speakers have been heard.

Printed versions of the Scoping Information Document are available at a number of public libraries and municipal offices. A list of these locations can be obtained by contacting Mr. James Hoegler, PE, AICP, or Ms. Patricia Chemka, AICP, at the telephone numbers listed below under ADDRESSES, or by visiting the following Web sites: http://www.mta.info (click “MTA-Home” then “Planning Studies,” and “North White Plains Station ”) and the WCDOT Web site: http://www.westchestergov.com/transportation. The Scoping Information Document may also be requested by writing to these individuals, or may be viewed on-line by visiting the Web sites listed above.

The scoping comment period will remain open through July 11, 2005. Written comments on the scope of the EIS may be tendered at the scoping meeting, or may be sent to Mr. James Hoegler, PE, AICP at Metro-North Railroad, or Ms. Patricia Chemka, AICP at WCDOT at the addresses given under ADDRESSES below. Requests to be placed on the study mailing list may also be made by calling or by writing to these individuals.

ADDRESSES: The public scoping meeting will be held: Tuesday, June 14, 2005 in rooms C and D at the Westchester County Center, 198 Central Avenue (at the Bronx River Parkway), White Plains, NY 10606.

The scoping meeting site is accessible to mobility-impaired people and interpreter services will be provided for persons with hearing impairments upon request. People with special needs should contact Mr. James Hoegler at Metro-North (888) 836-8301 at least five (5) days prior to the meeting.

Written comments will be taken at the meeting or may be sent to the following addresses thru July 11, 2005: Mr. James Hoegler, PE, AICP, MTA Metro-North Railroad, 345 Madison Avenue, 3rd Floor, New York, NY 10017, phone (888) 836-8301; or Ms. Patricia Chemka, AICP, Westchester County Department of Transportation, 100 East 1st Street, 9th Floor, Mount Vernon, NY 10550, phone (914) 813-7753.

FOR FURTHER INFORMATION CONTACT: Mr. Irwin B. Kessman, Director of Planning and Program Development, Federal Transit Administration, (212) 668-2170.

SUPPLEMENTARY INFORMATION:

I. Scoping

FTA, Metro-North and WCDOT invite interested individuals, organizations, and Federal, State, and local agencies to provide comments on the scope of the Proposed Action. During the scoping process, comments should focus on specific social, economic, or environmental issues to be evaluated, and on suggesting alternatives that may be less costly or have fewer environmental impacts while achieving similar transportation objectives. To assist interested parties in formulating their comments, a Scoping Information Document has been prepared and is available on the MTA Web site and the Westchester County Web site addresses noted above, or upon request from the Metro-North and WCDOT representatives identified above. The Scoping Information Document includes the purpose and need for the Proposed Action, a description of the preliminary alternatives, environmental issues that will be addressed during the course of the study, and an outline of the on-going public participation program.

II. Description of the Study Area

The North White Plains Station is located along Metro-North's Harlem Line on Harlem Avenue west of Broadway (NY Route 22) and east of the Bronx River Parkway, approximately 0.25 miles north of Interstate 287 (I-287), in the northern section of the City of White Plains, Westchester County, New York. The station is located amidst many one-way roads near the municipal boundaries of the City of White Plains, the Towns of North Castle and Greenburgh.

The Harlem Line, which generally runs north-south through the City of White Plains, is one of three major passenger rail lines which provide regularly scheduled daily train service between New York City, Grand Central Terminal, and various locations in Westchester County. The northern terminus of the Harlem Line is in Wassaic, in the Town of Amenia, Dutchess County, New York.

The Primary Study Area is defined as the area west of Harlem Avenue and east of the Bronx River Parkway Reservation (BRPR) between Holland Avenue to the south and Fisher Lane to the north. This area consists of Harlem Avenue, the land currently occupied by station parking areas, the station itself, and immediately adjacent facilities (e.g., drop off/pick up; intermodal area).

Towards its goal of improving access to public transportation, Metro-North has identified the North White Plains Station as a Strategic Passenger Facility due to its central location and the level of train service currently provided. Metro-North currently provides a level of train service to the North White Plains Station that is among the top five on the Harlem Line and among the top ten systemwide. Three parking areas currently serve Metro-North customers at the North White Plains Station, with Metro-North and Westchester County owning the majority of the approximately 1,250 available parking spaces.

Vehicular access to the station from the north and south is provided primarily by Broadway to the east and the Bronx River Parkway to the west. The majority of parking spaces that serve the station are located on the west side of the tracks and can only be accessed via the Bronx River Parkway at Fisher Lane. A one-way travel restriction on Fisher Lane in the vicinity of the railroad underpass prevents full west-to-east travel across the study area.

III. Purpose and Need for the Proposed Action

The need for the Proposed Action is due to the current parking deficiency, forecasted growth in ridership and projected customer diversions from other stations. In addition, access to the North White Plains Station is hampered by its location amidst a series of one-way roads such as Fisher Lane.

Parking utilization at the North White Plains Station is approximately 90 percent on any typical weekday. Metro-North experience suggests that drivers perceive a lot as full when the utilization exceeds 85 percent. A separate effort by Metro-North to estimate parking demand systemwide at its rail stations in New York State, which included a survey of the waiting lists for permits to park at the North White Plains Station, indicates the total current demand at the North White Plains Station to be approximately 1,560 spaces. Parking demand is forecast to be approximately 2,800 in 2015 and approximately 4,600 in 2,025. The construction of a multi-level parking structure would provide additional parking capacity to Metro-North customers to accommodate both current and future demand for parking (in 2015).

In addition, access to the North White Plains Station is hampered by its location amidst a series of one-way roads such as Fisher Lane. Fisher Lane currently provides the only means of access to the parking areas located west of the tracks, areas which provide approximately 80% of all North White Plains Station parking. All Metro-North customers who use these parking areas must travel through the Bronx River Parkway—Fisher Lane intersection for access. This intersection currently experiences heavy traffic during the morning peak hours. Improved station access would reduce the site's dependence on the Bronx River Parkway—Fisher Lane intersection.

IV. Alternatives

The EIS will evaluate Build and No-Action alternatives. The Build alternative will provide improvements that enhance connections to the existing transportation system and will meet the anticipated increase in parking demand.

Metro-North and WCDOT conducted a Planning Study for the Proposed Action in advance of the EIS. The purpose of the study was to identify area constraints and determine the viability for the Proposed Action. The study identified a range of alternative improvement options to address the parking and access deficiencies at North White Plains Station. Two garage concepts and eleven access alternatives were developed and analyzed. Printed versions of the Planning Study are available on the Web sites indicated above in DATES. Copies can also be viewed at the Metro-North and WCDOT offices by contacting Mr. Hoegler or Ms. Chemka at the telephone numbers listed above in ADDRESSES.

As a result of the Planning Study, one garage concept and four access alternatives will be progressed in the EIS. These alternatives both improve site access to/from the east side of the railroad tracks and increase parking capacity. Specifically, the alternatives to be evaluated are include:

(a) Parking Garage Concept

Currently, there are approximately 1,250 surface parking spaces at the North White Plains Station. The Proposed Action would result in approximately 2,700 parking spaces, a net increase of about 116% (approximately 1,450 spaces). This would be accomplished through the construction of an approximate 2,200 space parking structure. The structure would contain the 1,450 net new spaces as well as approximately 750 spaces relocated into the garage from surface lots, permitting the most efficient use of the limited available space. Approximately 500 surface spaces would remain.

The Planning Study revealed that due to area constraints and projected demand for parking spaces, the southern portion of the Westchester County-operated parking is the most feasible location for a new parking structure. It is also the largest contiguous area owned by Metro-North.

(b) Site Access Alternatives

1. New access from the North—Construction of a new single lane underpass located south of the existing Fisher Lane underpass that would be used for eastbound travel. The existing Fisher Lane underpass would be converted to westbound travel;

2. New access from the East—Construction of a new two-way underpass from an extended Glenn Street under the Metro-North tracks;

3. New access from the South—Construction of a one-way (ingress-only) surface driveway from Cemetery Road;

4. New access from the South—Construction of a reversible one-lane ramp over Metro-North tracks on the south side of proposed partial two-way Cemetery Road.

Each of the four access alternatives is feasible with the parking garage concept. The access alternatives will be assessed equally and one will be progressed along with the garage as the Proposed Action. No Action Alternative. This alternative provides for minor improvements, repairs, and other maintenance actions to the existing parking areas and access points in the future, without the Proposed Action.

V. Potential Effects

Upon completion, the proposed improvements associated with the Proposed Action are anticipated to eliminate existing and future parking deficiencies through 2015. It will also generate positive impacts for Metro-North customers, Westchester County residents, businesses, workers, and visitors.

Impacts that may occur as a result of the Proposed Action will be evaluated in the EIS. Metro-North and WCDOT have identified several environmental areas of concern, including, but not limited to: Traffic; historic and archaeological resources; parkland; wetlands; visual character; and safety and security. Potential temporary effects associated with the construction phase include noise, vibration, impacts on pedestrian and vehicular traffic, and air quality. The EIS will describe the methodology used to assess impacts; identify the affected environment; and identify opportunities and measures for mitigating adverse impacts. Principles of environmental construction management, resource protection and mitigation measures, and the “MTA Metro North Railroad Sustainable Design/Design for the Environment Generic Recommendations and Guidelines”, dated August 19, 2002 and developed pursuant to New York State Executive Order No. 111, Green and Clean State Buildings and Vehicles, will be incorporated into the Build Alternatives.

VI. FTA Procedures

During the NEPA process, FTA will comply with the requirements of Section 106 of the National Historic Preservation Act, Section 4(f) of the Department of Transportation Act (49 U.S.C. 303), the conformity requirements of the Clean Air Act, Executive Order 12898 on Environmental Justice and, to the maximum extent practicable, all other applicable federal environmental statutes, regulations, and executive orders, in accordance with FTA policy and regulations.

A Draft EIS will be prepared and made available for public and agency review and comment. A public hearing will be held on the Draft EIS. On the basis of the Draft EIS and the public and agency comments thereon, a preferred alternative will be selected and will be fully described and further developed in the Final EIS.

Issued on: May 19, 2005.
Letitia Thompson,
Regional Administrator, Region II.

[FR Doc. 05-10360 Filed 5-23-05; 8:45 am]

BILLING CODE 4910-57-P